DEPARTMENT OF DEFENSE

Department of the Navy

Privacy Act of 1974; System of Records

AGENCY: Department of the Navy, DOD.

ACTION: Notice to Add a System of Records.

SUMMARY: The Department of the Navy proposes to add a system of records notice to its inventory of record systems subject to the Privacy Act of 1974 (5 U.S.C. 552a), as amended.

DATES: This action will be effective on September 17, 2001 unless comments are received that would result in a contrary determination.

ADDRESSES: Send comments to the Department of the Navy, PA/FOA Policy Branch, Chief of Naval Operations (N09B10), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above. The proposed system report, as required by 5 U.S.C. 552a(r) of the Privacy Act, was submitted on August 8, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: August 13, 2001.
L.M. Bynum,
Alternate OSD Federal Register Liaison Officer, Department of Defense.

N06150-5

System name:

Millennium Cohort Study

System location:

Naval Health Research Center, Emerging Illness Division, P.O. Box 85122, San Diego CA 92186-5122.

Categories of individuals covered by the system:

An initial probability-based, cross-sectional sample of 100,000 U.S. Armed Forces personnel (active duty Army, Navy, Marine Corps, and Coast Guard and reserve/National Guard), as of October 2000, that will be followed prospectively by postal surveys every 3 years over a 21-year period. The initial sample of 100,000 persons will be comprised of 30,000 individuals who have been deployed to Southwest Asia, Bosnia, or Kosovo since August 1997, and 70,000 individuals who have not been deployed to these conflicts. In October 2004 and October 2007, a random sample of 20,000 new Armed Forces personnel will be added to the cohort. The total of 140,000 individuals will be followed until the year 2022.

Categories of records in the system:

Demographic data, such as name, Social Security Number, rank, grade, gender, military occupational speciality. Health data, such as self-reported medical conditions and symptoms, smoking and drinking behaviors. Validated instruments will be incorporated to capture self-assessed physical and mental functional status (Short Form-36 Veterans), psychosocial assessment (Patient Health Questionnaire), and posttraumatic stress disorder (Patient Checklist-17.

Information obtained from the survey responses will be supplemented with deployment, occupational, vaccination, and healthcare utilization data) related to individual health status.

Authority for maintenance of the system:

5 U.S.C. 301, Departmental Regulations; 10 U.S.C. 136, Under Secretary of Defense for Personnel and Readiness; and E.O. 9397 (SSN); DoD Protocol Number 32227; Sec 743, National Defense Authorization Act for Fiscal Year 1999; Sec 735, National Defense Appropriations Act for Fiscal Year 2001; Defense Technology Objective MD.25 Deployed Force Health Protection: Predicting Warfighter Resilience.

Purpose(s):

To create a probability-based, cross sectional database of selected veterans who have, or have not, deployed overseas so that various longitudinal health and research studies may be conducted over a 21 year period. The database will be used:

a. To systematically collect population-based demographic and health data to evaluate the health of Armed Forces personnel throughout their careers and after leaving service.

b. To evaluate the impact of operational deployments on various measures of health over time including medically unexplained symptoms and chronic disease such as cancer, heart disease and diabetes.

c. To serve as a foundation upon which other routinely captured medical and deployment data may be added to answer future questions regarding the health risks of operational deployment, occupations, and general service in the Armed Forces.

d. To examine characteristics of service in the Armed Forces associated with common clinician-diagnosed diseases and with scores on several standardized self-reported health inventories for physical and psychological functional status.

e. To provide a data repository and available representative Armed Forces cohort that future investigators and policy makers might use to study important aspects of service in the Armed Forces including disease outcomes among a Armed Forces cohort.

In addition to revealing changes in veterans' health status over time, the Millennium Cohort Study will serve as a data repository, providing a solid foundation upon which additional epidemiologic studies may be constructed.

Routine uses of records maintained in the system, including categories of users and the purposes of such uses:

In addition to those disclosures generally permitted under 5 U.S.C. 552a(b) of the Privacy Act, these records or information contained therein may specifically be disclosed outside the DoD as a routine use pursuant to 5 U.S.C. 522a(b)(3):

To the Department of Veterans Affairs (DVA) for (1) considering individual claims for benefits for which that DVA is responsible; and (2) for use in scientific, medical and other analysis regarding health outcomes research associated with military service.

To the Department of Health and Human Services, Centers for Disease Control and Prevention for use in scientific, medical and other analysis regarding health outcome research associated with military service.

Note: All disclosures to the DVA and HHS must have prior approval of the Naval Health Research Center Institutional Review Board and a Memorandum of Understanding must be entered into to ensure the right and obligations of the signatories are clear. Access to data (1) is provided on need-to-know basis only; (2) must adhere to the rule of minimization in that only information necessary to accomplish the purpose for which the disclosure is being made is releasable; and (3) must follow strict guidelines established in the data sharing agreement.

To the Social Security Administration (SSA) for considering individual claims for benefits for which that SSA is responsible.

The DoD “Blanket Routine Uses” that appear at the beginning of the Navy's compilation of systems of records notices apply to this system.

Policies and practices for storing, retrieving, accessing, retaining, and disposing of records in the system:

Storage:

Automated databases; electronic records are stored on magnetic media.

Retrievability:

Records are retrieved by military service member's name and Social Security Number.

Safeguards:

Access to areas where records are maintained is limited to authorized personnel. Access control devices protect areas during working hours and intrusion alarm devices during non-duty hours. Access to data is provided on need-to-know basis only. Password or other user code controls access to data.

Retention and disposal:

Disposition pending (until the National Archives and Records Administration has approved the retention and disposition schedule for these records, treat then as permanent.

SYSTEM MANAGER(S) AND ADDRESS:

Policy Official: Commanding Officer, Naval Health Research Center, Box 85122, San Diego, CA 92186-5122.

Record Holder: Senior Investigator, The Millennium Cohort Study, Naval Health Research Center, Emerging Illness Division, P.O. Box 85122, San Diego, CA 92186-5122.

NOTIFICATION PROCEDURE:

Individuals seeking to determine whether information about themselves is contained in this system should address written inquiries to the Senior Investigator, The Millennium Cohort Study, Naval Health Research Center, Emerging Illness Division, P.O. Box 85122, San Diego, CA 92186-5122.

The request should contain the service member's name and Social Security Number and must be signed by the service member requesting the information.

RECORD ACCESS PROCEDURES:

Individuals seeking access to information about themselves contained in this system should address written inquiries to the Senior Investigator, The Millennium Cohort Study, Naval Health Research Center, Emerging Illness Division, PO Box 85122, San Diego, CA 92186-5122.

The request should contain the service member's name and Social Security Number and must be signed by the service member requesting the information.

CONTESTING RECORD PROCEDURES:

The Navy's rules for accessing records, and for contesting contents and appealing initial agency determinations are published in Secretary of the Navy Instruction 5211.5; 32 CFR part 701; or may be obtained from the system manager.

RECORD SOURCE CATEGORIES:

Individual participant survey instruments; Composite Health Care System; Corporate Executive Information Systems; Defense Manpower Data Center; Defense Enrollment Eligibility Reporting System; Civilian Health and Medical Program of the Uniformed Services; survey research instruments and health research records at Naval Medical Center, San Diego; and individual physical exams and biological specimens.

EXEMPTIONS CLAIMED FOR THE SYSTEM:

None.

[FR Doc. 01-20748 Filed 8-16-01; 8:45 am]

BILLING CODE 5001-08-M